DEPARTMENT OF ENERGY

Federal Energy Regulatory Commission

Combined Notice of Filings #1

Take notice that the Commission received the following electric rate filings:

Docket Numbers: ER10-2265-004; ER14-1818-004; ER10-2339-006; ER10-2338-006; ER10-2340-006; ER11-2062-013; ER10-1291-014; ER11-2508-012; ER11-4307-013; ER12-261-012; ER10-2888-013; ER13-1791-005; ER13-1965-007; ER11-4308-013; ER11-2805-012.

Applicants: NRG Power Marketing LLC, Boston Energy Trading and Marketing LLC, CP Power Sales Seventeen, L.L.C., CP Power Sales Nineteen, L.L.C., CP Power Sales Twenty, L.L.C., Energy Plus Holdings LLC, GenConn Energy LLC, GenOn Energy Management, LLC, Green Mountain Energy Company, Independence Energy Group LLC, Norwalk Power LLC, NRG Florida LP, NRG Wholesale Generation LP, Reliant Energy Northeast LLC, RRI Energy Services, LLC.

Description: Updated Market Power Analysis in Southeast Region of NRG MBR Entities under ER10-2265, et. al.

Filed Date: 12/31/14.

Accession Number: 20141231-5297.

Comments Due: 5 p.m. ET 3/2/15.

Docket Numbers: ER10-3077-004; ER10-3071-004; ER10-3074-004; ER10-3075-004; ER10-3076-004; ER11-4050-003; ER11-4027-005; ER14-1342-001; ER11-4028-005; ER10-3126-001.

Applicants: CalPeak Power LLC, CalPeak Power—Border LLC, CalPeak Power—Enterprise LLC, CalPeak Power—Panoche LLC, CalPeak Power—Vaca Dixon LLC, Cogentrix of Alamosa, LLC, James River Genco, LLC, Midway Peaking, LLC, Portsmouth Genco, LLC, Red Oak Power, LLC.

Description: Notice of Non-Material Change in Status of the Carlyle Group affiliate MBR Sellers.

Filed Date: 12/31/14.

Accession Number: 20141231-5305.

Comments Due: 5 p.m. ET 1/21/15.

Docket Numbers: ER10-3125-009; ER10-3102-009; ER10-3100-009; ER10-3107-009; ER10-3109-009.

Applicants: AL Sandersville, LLC, Effingham County Power, LLC, MPC Generating, LLC, Walton County Power, LLC, Washington County Power, LLC.

Description: Notice of Non-Material Change in Status of AL Sandersville, LLC, et. al.

Filed Date: 12/31/14.

Accession Number: 20141231-5306.

Comments Due: 5 p.m. ET 1/21/15.

Docket Numbers: ER15-808-000.

Applicants: Entergy Texas, Inc.

Description: Compliance filing per 35.37: Triennial Market Power Update of Entergy Texas, Inc. to be effective N/A.

Filed Date: 12/31/14.

Accession Number: 20141231-5244.

Comments Due: 5 p.m. ET 3/2/15.

Docket Numbers: ER15-809-000.

Applicants: Entergy Nuclear Palisades, LLC.

Description: Compliance filing per 35.37: Market Power Update of Entergy Nuclear Palisades, LLC to be effective N/A.

Filed Date: 12/31/14.

Accession Number: 20141231-5246.

Comments Due: 5 p.m. ET 3/2/15.

Docket Numbers: ER15-810-000.

Applicants: Entergy Power, LLC.

Description: Compliance filing per 35.37: Triennial Market Power Update of Entergy Power, LLC to be effective N/A.

Filed Date: 12/31/14.

Accession Number: 20141231-5247.

Comments Due: 5 p.m. ET 3/2/15.

Docket Numbers: ER15-811-000.

Applicants: EWO Marketing, LLC.

Description: Compliance filing per 35.37: Triennial Market Power Update of EWO Marketing, LLC to be effective N/A.

Filed Date: 12/31/14.

Accession Number: 20141231-5248.

Comments Due: 5 p.m. ET 3/2/15.

Docket Numbers: ER15-812-000.

Applicants: Northern Iowa Windpower, LLC.

Description: Compliance filing per 35.37: Triennial Market Power Update of Northern Iowa Windpower, LLC to be effective N/A.

Filed Date: 12/31/14.

Accession Number: 20141231-5249.

Comments Due: 5 p.m. ET 3/2/15.

Docket Numbers: ER15-813-000.

Applicants: EAM Nelson Holding, LLC.

Description: Compliance filing per 35.37: Triennial Market Power Update of EAM Nelson Holding, LLC to be effective N/A.

Filed Date: 12/31/14.

Accession Number: 20141231-5250.

Comments Due: 5 p.m. ET 3/2/15.

Docket Numbers: ER15-814-000.

Applicants: RS Cogen, LLC.

Description: Compliance filing per 35.37: Triennial Market Power Update of RS Cogen, LLC to be effective N/A.

Filed Date: 12/31/14.

Accession Number: 20141231-5254.

Comments Due: 5 p.m. ET 3/2/15.

Docket Numbers: ER15-815-000.

Applicants: Southwest Power Pool, Inc.

Description: § 205(d) rate filing per 35.13(a)(2)(iii): 1166R22 Oklahoma Municipal Power Authority NITSA and NOA to be effective 12/1/2014.

Filed Date: 12/31/14.

Accession Number: 20141231-5259.

Comments Due: 5 p.m. ET 1/21/15.

Docket Numbers: ER15-816-000.

Applicants: Nevada Power Company.

Description: Initial rate filing per 35.12 Rate Schedule No. 148 NPC Concurrence with SCE RS 495 to be effective 8/13/2013.

Filed Date: 12/31/14.

Accession Number: 20141231-5268.

Comments Due: 5 p.m. ET 1/21/15.

Docket Numbers: ER15-817-000.

Applicants: California Independent System Operator Corporation.

Description: Compliance filing per 35: 2014-12-31 Further EIM Petition for Limited Waiver to be effective N/A.

Filed Date: 12/31/14.

Accession Number: 20141231-5269.

Comments Due: 5 p.m. ET 1/21/15.

Docket Numbers: ER15-818-000.

Applicants: Nevada Power Company.

Description: Tariff Withdrawal per 35.15: Rate Schedule No. 135 Cancellation to be effective 8/13/2013.

Filed Date: 12/31/14.

Accession Number: 20141231-5285.

Comments Due: 5 p.m. ET 1/21/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 2, 2015.
Nathaniel J. Davis, Sr.,
Deputy Secretary.

[FR Doc. 2015-00188 Filed 1-9-15; 8:45 am]

BILLING CODE 6717-01-P